DEPARTMENT OF COMMERCE

National Oceanic and Atmospheric Administration

RIN 0648-XE33

Fisheries of the Northeast Region; Overfished Determination of Summer Flounder

AGENCY: National Marine Fisheries Service (NMFS), National Oceanic and Atmospheric Administration (NOAA), Commerce.

ACTION: Notice.

SUMMARY: This action serves as a notice that NMFS, on behalf of the Secretary of Commerce (Secretary), has determined that summer flounder is overfished. NMFS notified the Mid-Atlantic Fishery Management Council (Council) of its determination by letter. The Council is required to take action within 1 year following notification by NMFS that a stock is overfished or existing remedial action taken to end overfishing or rebuild an overfished stock has not resulted in adequate progress.

FOR FURTHER INFORMATION CONTACT: Debra Lambert, telephone: (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS sends written notification to fishery management councils when overfishing is occurring, a stock is approaching overfishing, a stock is overfished, a stock is approaching an overfished condition, or existing action taken to end previously identified overfishing or rebuilding a previously identified overfished stock or stock complex has not resulted in adequate progress. On December 3, 2007, the NMFS Northeast Regional Administrator sent a letter notifying the Council that summer flounder is overfished. Summer flounder is currently under a rebuilding plan. The Council must therefore ensure that overfishing is ended and that the stock rebuilds on schedule. A copy of the notification letter sent to the Council for the aforementioned determination is available at http://www.nmfs.noaa.gov/sfa/statusoffisheries/SOSmain.htm.

Dated: December 20, 2007.
James P. Burgess,
Acting Director, Office of Sustainable Fisheries, National Marine Fisheries Service.

[FR Doc. E7-25271 Filed 12-27-07; 8:45 am]

BILLING CODE 3510-22-S